DEPARTMENT OF TRANSPORTATION

Federal Transit Administration

[FTA Docket No. FTA-2008-0026]

Notice of Request for the Extension of Currently Approved Information Collections

AGENCY: Federal Transit Administration, DOT.

ACTION: Notice of request for comments.

SUMMARY: In accordance with the Paperwork Reduction Act of 1995, this notice announces the intention of the Federal Transit Administration (FTA) to request the Office of Management and Budget (OMB) to extend the following currently approved information collection: 49 U.S.C. section 53 14(a) United We Ride State Coordination Grants.

DATES: Comments must be submitted before August 1, 2008.

ADDRESSES: To ensure that your comments are not entered more than once into the docket, submit comments identified by the docket number by only one of the following methods:

1. Web site: http://www.regulations.gov. Follow the instructions for submitting comments on the U.S. Government electronic docket site.

(Note: The U.S. Department of Transportation's (DOT's) electronic docket is no longer accepting electronic comments.) All electronic submissions must be made to the U.S. Government electronic docket site at http://www.regulations.gov. Commenters should follow the directions below for mailed and hand-delivered comments.

2. Fax: 202-366-7951.

3. Mail: U.S. Department of Transportation, 1200 New Jersey Avenue, SE., Docket Operations, M-30, West Building, Ground Floor, Room W12-140, Washington, DC 20590-0001.

4. Hand Delivery: U.S. Department of Transportation, 1200 New Jersey Avenue, SE., Docket Operations, M-30, West Building, Ground Floor, Room W12-140, Washington, DC 20590-0001 between 9 a.m. and 5 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to http://www.regulations.gov. You may review DOT's complete Privacy Act Statement in the Federal Register published April 11, 2000 (65 FR 19477), or you may visit http://www.regulations.gov. Docket: For access to the docket to read background documents and comments received, go to http://www.regulations.gov at any time. Background documents and comments received may also be viewed at the U.S. Department of Transportation, 1200 New Jersey Avenue, SE., Docket Operations, M-30, West Building, Ground Floor, Room W12-140, Washington, DC 20590-0001 between 9 a.m. and 5 p.m., Monday through Friday, except federal holidays.

FOR FURTHER INFORMATION CONTACT: Mr. Doug Birnie, Office of Program Management, (202) 366-1666, or e-mail: Doug.Birnie@dot.gov.

SUPPLEMENTARY INFORMATION: Interested parties are invited to send comments regarding any aspect of these information collections, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. Section 53 14(a) United We Ride State Coordination Grants (OMB Number: 2132-0562).

Background: The Federal Interagency Transportation Council on Access and Mobility, comprised of 11 federal departments and agencies, launched United We Ride (UWR) to enhance the coordination of human service transportation. UWR intends to break down the barriers between programs and set the stage for local and state partnerships that generate common-sense solutions and deliver A-plus performance for those individuals who depend on transportation services to participate fully in community life. The UWR initiatives include: (1) Promotion of coordinated local transportation planning among federally-assisted programs funding transportation, (2) removal of federal barriers to coordination of transportation services, (3) United We Ride state and local leadership awards, (4) State United We Ride Coordination Grants, (5) National Mobility Services for All Americans Demonstration Program creating one call transportation call centers for consumers and (6) Help Along the Way technical assistance coordinated by the National Resource Center on Human Service Transportation Coordination.

Congress and the Executive Branch are interested in ensuring that various human service transportation activities funded by various federal programs are better coordinated. The General Accounting Office (GAO) issued a report on “Transportation Disadvantaged Populations” (June 2003) that identified 62 different federal programs across eight federal agencies that provide funding that may be used to support community transportation services.

The report points out that there are multiple public and private agencies that provide human service transportation in any one community and services vary greatly in terms of eligibility requirements, hours or scope of operation, specific destinations and quality.

Given the multiplicity of programs and the significant dollar amounts spent, more effective coordination is needed to ensure better service to more people. This is especially true when federal, state and local budgets for human service activities are under extreme financial pressure.

As also indicated by GAO, many objectives have been achieved; however, the fragmentation and lack of coordination within supporting agencies continue to be a challenge.

On February 24, 2004, President Bush signed an Executive Order 13330 on Human Service Transportation Coordination establishing the Federal Interagency Coordinating Council on Access and Mobility and requiring attention to the obstacles outlined by GAO.

The United We Ride initiative includes a State Coordination Grant that provides support to help states provide leadership and assistance to localities to develop more coordinated and improved human service transportation delivery systems in accordance with the objectives set forth by the President in Executive Order 13330.

Respondents: State and local government, business or other for-profit institutions, and nonprofit institutions.

Estimated Annual Burden on Respondents: 40 hours for each of the 50 respondents.

Estimated Total Annual Burden: 2,000 hours.

Frequency: Annual.

Issued: May 19, 2008.
Ann M. Linnertz,
Associate Administrator for Administration.

[FR Doc. E8-11705 Filed 5-30-08; 8:45 am]

BILLING CODE 4910-57-M